DEPARTMENT OF HEALTH AND HUMAN SERVICES

Centers for Medicare & Medicaid Services

[Document Identifiers: CMS-10487, CMS-R-71, CMS-10171, CMS-10260, CMS-10275, CMS-10396, and CMS-R-266]

Agency Information Collection Activities: Submission for OMB Review; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected and the use of automated collection techniques or other forms of information technology to minimize the information collection burden.

DATES: Comments on the collection(s) of information must be received by the OMB desk officer by March 23, 2017.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 or, Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Extension of a previously approved collection; Title of Information Collection: Medicaid Emergency Psychiatric Demonstration (MEPD) Evaluation; Use: Since the inception of Medicaid, inpatient care provided to adults ages 21 to 64 in institutions for mental disease (IMDs) has been excluded from federal matching funds. The Emergency Medical Treatment and Active Labor Act (EMTALA), however, requires IMDs that participate in Medicare to provide treatment for psychiatric emergency medical conditions (EMCs), even for Medicaid patients for whose services cannot be reimbursed. Section 2707 of the Affordable Care Act (ACA) directs the Secretary of Health and Human Services to conduct and evaluate a demonstration project to determine the impact of providing payment under Medicaid for inpatient services provided by private IMDs to individuals with emergency psychiatric conditions between the ages of 21 and 64. We will use the data to evaluate the Medicaid Emergency Psychiatric Demonstration (MEPD) in accordance with the ACA mandates. This evaluation in turn will be used by Congress to determine whether to continue or expand the demonstration. If the decision is made to expand the demonstration, the data collected will help to inform both CMS and its stakeholders about possible effects of contextual factors and important procedural issues to consider in the expansion, as well as the likelihood of various outcomes. Form Number: CMS-10487 (OMB control number: 0938-NEW); Frequency: Annually; Affected Public: Individuals and households; State, Local and Tribal governments; Business and other for-profits and Not-for-profits; Number of Respondents: 93; Total Annual Responses: 1,944; Total Annual Hours: 2,046. (For policy questions regarding this collection contact Vetisha McClair at 410-786-4923.)

2. Type of Information Collection Request: Extension of a previously approved collection; Title of Information Collection: Quality Improvement Organization (QIO) Assumption of Responsibilities and Supporting Regulations; Use: The Peer Review Improvement Act of 1982 amended Title XI of the Social Security Act to create the Utilization and Quality Control Peer Review Organization (PRO) program which replaces the Professional Standards Review Organization (PSRO) program and streamlines peer review activities. The term PRO has been renamed Quality Improvement Organization (QIO). This information collection describes the review functions to be performed by the QIO. It outlines relationships among QIOs, providers, practitioners, beneficiaries, intermediaries, and carriers. Form Number: CMS-R-71 (OMB Control Number: 0938-0445); Frequency: Yearly; Affected Public: Business or other for-profit and Not-for-profit institutions; Number of Respondents: 6,939; Total Annual Responses: 489,750; Total Annual Hours: 1,479,346. (For policy questions regarding this collection contact Tennille Coombs at 410-786-3472.)

3. Type of Information Collection Request: Extension of a currently approved collection; Title of Information Collection: Collecting Benefit Coordination Data; Use: This collection of information request coordinates Part D plan prescription drug coverage with other prescription drug coverage. The collected information will assist CMS, Part D plans and other payers with coordination of prescription drug benefits at the point-of-sale and tracking of the beneficiary's True out-of-pocket (TrOOP) expenditures using the Part D Transaction Facilitator (PDTF). Form Number: CMS-10171 (OMB control number: 0938-0978); Frequency: Yearly and occasionally; Affected Public: Business or other for-profits; Number of Respondents: 62,438; Total Annual Responses: 891,777,634; Total Annual Hours: 5,201,718. (For policy questions regarding this collection contact Shelly Winston at 410-786-3694.)

4. Type of Information Collection Request: Revision of a currently approved collection; Title of Information Collection: Medicare Advantage and Prescription Drug Program: Final Marketing Provisions in 42 CFR 422.111(a)(3) and 423.128(a)(3); Use: We require that Medicare Advantage (MA) organizations and Part D sponsors use standardized documents to satisfy disclosure requirements mandated by section 1851(d)(3)(A) of the Social Security Act (Act) and 42 CFR 422.111(b) for MA organizations, and section 1860D-1(c) of the Act and 42 CFR 423.128(a)(3) for Part D sponsors. The regulatory provisions require that MA organizations and Part D sponsors disclose plan information, including: Service area, benefits, access, grievance and appeals procedures, and quality improvement and quality assurance requirements by September 30th of each year. The MA organizations and Part D sponsors use the information to comply with the disclosure requirements. We will use the approved standardized documents to ensure that correct information is disclosed to current and potential enrollees.

For 2017, CMS has a total of nine standardized ANOC/EOC documents: Health Maintenance Organization, Cost, Dual Eligible Special Needs, Medicare Medical Savings Account, Private-Fee-For-Service, Preferred Provider Organizations, Preferred Provider Organization with Prescription Drugs, Health Maintenance Organization with Prescription Drug, and Prescription Drug. These standardized documents will be used by MA organizations and Part D sponsors for the 2018 contract year.

In revising the standardized ANOC/EOCs for contract year 2018, we did not add to or remove any section from the prior contract year ANOC/EOC models. MA organizations and Part D sponsors are still required to use the standardized language in the ANOC/EOC models and to send this document to current members at least 15 days prior to the start of the annual enrollment period or by September 30, 2017 for the 2018 enrollment season, based on 42 CFR 422.111(a) (3) and 423.128(a)(3). Form Number: CMS-10260 (OMB control number: 0938-1051); Frequency: Yearly; Affected Public: Private sector (Business or other for-profits); Number of Respondents: 805; Total Annual Responses: 805; Total Annual Hours: 9,660. (For policy questions regarding this collection contact Gladys Valentin at 410-786-1620.)

5. Type of Information Collection Request: Revision of a currently approved collection; Title of Information Collection: CAHPS Home Health Care Survey; Use: The national implementation of the Home Health Care Consumer Assessment of Healthcare Providers and Systems (CAHPS®) Survey is designed to collect ongoing data from samples of home health care patients who receive skilled services from Medicare-certified home health agencies. The data collected from the national implementation of the Home Health Care CAHPS Survey will be used for the following purposes: (1) To produce comparable data on the patients' perspectives of the care they receive from home health agencies, (2) to create incentives for agencies to improve the quality of care they provide through public reporting of survey results, and (3) to enhance public accountability in health care by increasing the transparency of the quality of care provided in return for the public investment. Sampling and data collection will be conducted on a monthly basis. Survey results will be analyzed and reported on a quarterly basis, with publicly reported results based on one year's worth of data.

As part of this information collection request for the national implementation of Home Health Care CAHPS, CMS is also requesting approval to conduct a randomized mode experiment with a sample of home health agencies. The mode experiment compared the responses to the survey across the three proposed modes to determine whether adjustments are needed to ensure that the data collection mode does not influence the survey results. In addition, data from the mode experiment will be used to determine which, if any, patient characteristics may affect the patients' rating of the care they receive and, if so, develop an adjustment model of those data based on those factors. CMS worked with RTI, the federal contractor to recruit approximately 100 home health agencies to participate in the mode experiment. The mode experiment included approximately 23,000 home health care patients. Form Number: CMS-10275 (OMB control number: 0938-1066); Frequency: Quarterly; Affected Public: Individuals and households, Business or other for-profit and Not-for-profit institutions; Number of Respondents: 2,715,890; Total Annual Responses: 2,715,890; Total Annual Hours: 699,440. (For policy questions regarding this collection contact Lori Teichman at 410-786-6684.)

6. Type of Information Collection Request: Extension of a currently approved collection; Title of Information Collection: Medication Therapy Management Program Improvements; Use: Information collected by Part D medication therapy management programs (as required by the standardized format for the comprehensive medication review summary) will be used by beneficiaries or their authorized representatives, caregivers, and their healthcare providers to improve medication use and achieve better healthcare outcomes. Form Number: CMS-10396 (OMB control number 0938-1154); Frequency: Occasionally; Affected Public: Business or other for-profits; Number of Respondents: 599; Total Annual Responses: 1,211,661; Total Annual Hours: 807,451. (For policy questions regarding this collection contact Victoria Dang at 410-786-3991.)

7. Type of Information Collection Request: Extension of a currently approved collection; Title of Information Collection: Medicaid Disproportionate Share Hospital (DSH) Annual Reporting Requirements; Use: States are required to submit an annual report that identifies each disproportionate share hospital (DSH) that received a DSH payment under the state's Medicaid program in the preceding fiscal year and the amount of DSH payments paid to that hospital in the same year along with other information that the Secretary determines necessary to ensure the appropriateness of DSH payments; Form Number: CMS-R-266 (OMB control number: 0938-0746); Frequency: Yearly; Affected Public: State, Local, or Tribal Governments; Number of Respondents: 51; Total Annual Responses: 51; Total Annual Hours: 2,142. (For policy questions regarding this collection contact Robert Lane at 410-786-2015.)

Dated: February 15, 2017.
William N. Parham, III,
Director, Paperwork Reduction Staff, Office of Strategic Operations and Regulatory Affairs.

[FR Doc. 2017-03369 Filed 2-17-17; 8:45 am]

BILLING CODE 4120-01-P